DEPARTMENT OF AGRICULTURE

Animal and Plant Health Inspection Service

7 CFR Part 301

[Docket No. 03-082-2]

Golden Nematode; Regulated Area

AGENCY: Animal and Plant Health Inspection Service, USDA.

ACTION: Final rule.

SUMMARY: We are adopting as a final rule, with one change, an interim rule that amended the golden nematode regulations by adding a field in Steuben County, NY, to the list of generally infested regulated areas. In this document, we are making an editorial change in order to correct a reference in the regulations. The interim rule was necessary to prevent the artificial spread of golden nematode to noninfested areas of the United States.

DATES: Effective Date: May 20, 2004.

FOR FURTHER INFORMATION CONTACT: Dr. Vedpal Malik, Agriculturalist, Invasive Species and Pest Management, PPQ, APHIS, 4700 River Road Unit 134, Riverdale, MD 20737-1236; (301) 734-6774.

SUPPLEMENTARY INFORMATION:

Background

The golden nematode (Globodera rostochiensis) is a destructive pest of potatoes and other solanaceous plants. Potatoes cannot be economically grown on land which contains large numbers of the nematode. The golden nematode has been determined to occur in the United States only in parts of New York.

The golden nematode regulations (contained in 7 CFR 301.85 through 301.85-10 and referred to below as the regulations) list two entire counties and portions of seven other counties in the State of New York as regulated areas and restrict the interstate movement of regulated articles from those areas. Such restrictions are necessary to prevent the artificial spread of the golden nematode to noninfested areas of the United States.

In an interim rule effective and published in the Federal Register on January 5, 2004 (69 FR 247-249, Docket No. 03-082-1), we amended the regulations to add a field in Steuben County, NY, to the list of generally infested regulated areas. This action was necessary to prevent the artificial spread of golden nematode to noninfested areas of the United States.

We solicited comments concerning the interim rule for 60 days ending March 5, 2004. We did not receive any comments. However, after the interim rule was published, we noted an editorial error in the regulations. Specifically, the regulations at § 301.85(b)(6)(iii) incorrectly reference the location of certain treatment requirements for Irish potatoes harvested from a field where golden nematode is present. In this final rule, we are correcting that reference.

Therefore, for the reasons given in the interim rule and in this document, we are adopting the interim rule as a final rule with the change discussed in this document.

This final rule also affirms the information contained in the interim rule concerning Executive Order 12866 and the Regulatory Flexibility Act, Executive Orders 12372 and 12988, and the Paperwork Reduction Act.

Further, for this action, the Office of Management and Budget has waived its review under Executive Order 12866.

List of Subjects in 7 CFR Part 301

Agricultural commodities, Plant diseases and pests, Quarantine, Reporting and recordkeeping requirements, Transportation.

Accordingly, the interim rule amending 7 CFR part 301 that was published at 69 FR 247-249 on January 5, 2004, is adopted as a final rule with the following change:

PART 301—DOMESTIC QUARANTINE NOTICES

1. The authority citation for part 301 continues to read as follows:

Authority: 7 U.S.C. 7701-7772; 7 CFR 2.22, 2.80, and 371.3.

Section 301.75-15 also issued under Sec. 204, Title II, Pub. L. 106-113, 113 Stat. 1501A-293; sections 301.75-15 and 301.75-16 also issued under Sec. 203, Title II, Pub. L. 106-224, 114 Stat. 400 (7 U.S.C. 1421 note).

§ 301.85 [Amended]

2. In § 301.85, paragraph (b)(6)(iii) is amended by removing the words “paragraph (b)(6)(ii)(A), (B), or (C)” and adding the words paragraph (b)(6)(iii)(A), (B), or (C)” in their place.

Done in Washington, DC, this 14th day of April, 2004.
Kevin Shea,
Acting Administrator, Animal and Plant Health Inspection Service.

[FR Doc. 04-8895 Filed 4-19-04; 8:45 am]

BILLING CODE 3410-34-P